DEPARTMENT OF COMMERCE

National Oceanic and Atmospheric Administration

[RTID 0648-XA168]

Western Pacific Fishery Management Council; Public Meetings

AGENCY: National Marine Fisheries Service (NMFS), National Oceanic and Atmospheric Administration (NOAA), Commerce.

ACTION: Notice of public meetings.

SUMMARY: The Western Pacific Fishery Management Council (Council) will hold meetings of its Hawaii Archipelago Fishery Ecosystem Plan (FEP) Advisory Panel (AP), American Samoa Archipelago FEP AP, Mariana Archipelago FEP-Guam AP, and Mariana Archipelago FEP-Commonwealth of the Northern Mariana Islands (CNMI) AP to discuss and make recommendations on fishery management issues in the Western Pacific Region.

DATES: The Hawaii Archipelago FEP AP will meet on Friday, May 29, 2020 between 9 a.m. and 11 a.m.; the Mariana Archipelago FEP-Guam AP will meet on Saturday, May 30, 2020, between 9 a.m. and 11 a.m.; the American Samoa Archipelago FEP AP will meet on Saturday, May 30, 2020 from 10 a.m. to 12 p.m.; and the Mariana Archipelago FEP-CNMI AP will meet on Saturday, June 6, 2020 between 9 a.m. and 11 a.m. All times listed are local island times. For specific times and agendas, see SUPPLEMENTARY INFORMATION.

ADDRESSES: Each of the meetings will be held by web conference. Audio and visual portions for all of the web conferences can be accessed at: https://wprfmc.webex.com/join/info.wpcouncilnoaa.gov. Web conference access information will also be posted on the Council's website at www.wpcouncil.org. For assistance with the web conference connection, contact the Council office at (808) 522-8220.

FOR FURTHER INFORMATION CONTACT: Kitty M. Simonds, Executive Director, Western Pacific Fishery Management Council; telephone: (808) 522-8220.

SUPPLEMENTARY INFORMATION: Public comment periods will be provided in the agenda. Information on how to provide public comment will be posted on the Council's website at www.wpcouncil.org. The order in which agenda items are addressed may change. The meetings will run as late as necessary to complete scheduled business.

Schedule and Agenda for the Hawaii Archipelago FEP AP Meeting

Friday, May 29, 2020, 9 a.m.-11 a.m.

1. Welcome and Introductions

2. Review of the last AP meeting and recommendations

3. Council Issues

A. Pacific Remote Island Area (PRIA) Marine Conservation Plan (MCP)

B. Mandatory Electronic Reporting

C. 2019 Annual Stock Assessment and Fishery Evaluation (SAFE) Reports

D. Update on Hawaii Small-boat Fishery Management

E. Considerations for Developing Reasonable and Prudent Measures (RPMs) and/or Reasonable and Prudent Alternatives (RPAs) for the American Samoa Longline Fishery

4. Hawaii Reports

5. Report on Hawaii Archipelago FEP AP Plan Activities

6. Island Fishery Issues and Activities

7. Public Comment

8. Discussion and Recommendations

9. Other Business

Schedule and Agenda for the Mariana Archipelago FEP-Guam AP Meeting

Saturday, May 30, 2020, 9 a.m.-11 a.m.

1. Welcome and Introductions

2. Review of the last AP meeting and recommendations

3. Council Issues

A. Guam MCP

B. PRIA MCP

C. Mandatory Electronic Reporting

D. 2019 Annual SAFE Reports

E. Update on Data Reporting App and Launch Plans

4. Guam Reports

5. Report on Mariana Archipelago FEP Advisory Panel Plan Activities

6. Island Fishery Issues and Activities

7. Public Comment

8. Discussion and Recommendations

9. Other Business

Schedule and Agenda for the American Samoa FEP AP Meeting

Saturday, May 30, 2020, 10 a.m.-12 p.m.

1. Welcome and Introductions

2. Review of the last AP meeting and recommendations

3. Council Issues

A. Specifying Annual Catch Limits for American Samoa Bottomfish

B. Pacific Remote Island Area (PRIA) Marine Conservation Plan (MCP)

C. Mandatory Electronic Reporting

D. 2019 Annual Stock Assessment and Fishery Evaluation (SAFE) Report

E. Update on Data Reporting App and Launch Plans

F. Considerations for Developing RPMs and/or RPAs for the Hawaii Deep-set Longline Fishery

4. American Samoa Reports

5. Report on American Samoa Archipelago FEP AP Plan Activities

6. Island Fishery Issues and Activities

7. Public Comment

8. Discussion and Recommendations

9. Other Business

Schedule and Agenda for the Mariana Archipelago FEP-CNMI AP Meeting

Saturday, June 6, 2020, 9 a.m.-11 a.m.

1. Welcome and Introductions

2. Review of the last AP meeting and recommendations

3. Council Issues

A. PRIA MCP

B. Mandatory Electronic Reporting

C. 2019 Annual SAFE Reports

D. Update on Data Reporting App and Launch Plans

4. Commonwealth of the Northern Mariana Islands Reports

5. Report on Mariana Archipelago FEP AP Plan Activities

6. Island Fishery Issues and Activities

7. Public Comment

8. Discussion and Recommendations

9. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 7, 2020.
Tracey L. Thompson,
Acting Deputy Director, Office of Sustainable Fisheries, National Marine Fisheries Service.

[FR Doc. 2020-10211 Filed 5-12-20; 8:45 am]

BILLING CODE 3510-22-P